Proclamation 9541 of November 10, 2016

Get Smart About Antibiotics Week, 2016

By the President of the United States of America

A Proclamation

Since their discovery nearly nine decades ago, antibiotics have transformed the world of modern medicine. They have been instrumental in combating previously deadly or debilitating illnesses and have saved countless lives. Yet the misuse of antibiotics can pose risks to public health. As antibiotics have become more commonly prescribed and misused in all health care settings, bacteria have developed the capability to resist them, which can undermine their effectiveness. Get Smart About Antibiotics Week is an important opportunity to highlight the need to use antibiotics responsibly.

Antibiotic-resistant bacteria cause tens of thousands of deaths each year in the United States alone, and millions of Americans contract antibiotic-resistant illnesses that are difficult and expensive to treat. A major factor contributing to the emergence of antibiotic resistance is the inappropriate use of antibiotics, which are among the most frequently prescribed medicines and are also given to animals that are used for food. When a person takes antibiotics for a bacterial infection, bacteria sensitive to that medicine are generally destroyed or prevented from growing further—but bacteria that are resistant to that antibiotic will multiply, making current or future bacterial infections even worse and harder to treat. When antibiotics are used inappropriately, including when they are not needed—such as for treating viral infections like the common cold, or used in wrong doses or for the wrong period of time—the likelihood of antibiotic resistance is greatly increased, reducing the effectiveness of these antibiotics in the future. Antibiotic-resistant bacteria and infections cost our country tens of billions of dollars in health care expenses, but more importantly, if we lose effective antibiotic options for treating people, more patients will be put at risk—unless we act now.

That is why my Administration has taken action to reduce the emergence and spread of antibiotic-resistant bacteria and help ensure the continued availability of effective therapeutics for the treatment of bacterial infections. In 2014, I signed an Executive Order that created the Task Force for Combating Antibiotic-Resistant Bacteria, established an interagency approach to improve our Nation's antibiotic use, and built a framework to strengthen surveillance systems so important data on antibiotic-resistant bacteria can more easily be shared and tracked to prevent and control infections. We also launched the National Action Plan for Combating Antibiotic-Resistant Bacteria, through which we are working to slow the emergence of resistant bacteria and accelerate research efforts to develop alternative treatments, diagnostic tools, and vaccines. Last year, with recognition that our public health is connected to the health of animals and the environment, especially with regards to the spread of disease, we hosted the White House Forum on Antibiotic Stewardship to bring together key human and animal health stakeholders to identify successful strategies and opportunities for collaboration. We must continue working with food producers, health care providers, leaders in the private sector, and the American people to improve our antibiotic use.

With a sustained commitment to promoting the appropriate use of antibiotics, we can address this growing public health problem. In September, the United Nations General Assembly pledged their commitment to international cooperation to combat this global threat to human health, development, and security, and heads of states came together to commit to initiating, increasing, and sustaining awareness of antimicrobial resistance. This week, we resolve to improve awareness of the threat of antibiotic resistance to our public health, and we encourage medical professionals to prescribe, and patients to use, antibiotics responsibly. Let us ensure that future generations can access safe and effective antibiotics, and together let us address the harmful effects of antibiotic resistance.

NOW, THEREFORE, I, BARACK OBAMA, President of the United States of America, by virtue of the authority vested in me by the Constitution and the laws of the United States, do hereby proclaim November 13 through November 19, 2016, as Get Smart About Antibiotics Week. I call upon the scientific community, medical professionals, educators, businesses, industry leaders, and all Americans to observe this week by promoting the responsible use of antibiotics and raising awareness of the dangers inherent in their misuse and overuse.

IN WITNESS WHEREOF, I have hereunto set my hand this tenth day of November, in the year of our Lord two thousand sixteen, and of the Independence of the United States of America the two hundred and forty-first.

[FR Doc. 2016-27758

Filed 11-15-16; 11:15 am]

Billing code 3295-F7-P